ENVIRONMENTAL PROTECTION AGENCY

[FRL OP-OFA-072]

Environmental Impact Statements; Notice of Availability

Responsible Agency: Office of Federal Activities, General Information 202-564-5632 or https://www.epa.gov/nepa.

Weekly receipt of Environmental Impact Statements (EIS)

Filed May 22, 2023 10 a.m. EST Through May 26, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230071, Final, FAA, AR, Adoption—Beddown of a Foreign Military Sales Pilot Training Center at Ebbing Air National Guard Base, Arkansas or Selfridge Air National Guard Base, Michigan, Contact: Dean McMath, 817-222-5617.

The Federal Aviation Administration (FAA) has adopted the United States Air Force's Final EIS No.20230013, filed 01/25/2023 with the Environmental Protection Agency. The FAA was a cooperating agency on this project. Therefore, republication of the document is not necessary under section 1506.3(b)(2) of the CEQ regulations.

EIS No. 20230072, Final, NASA, UT, Final Mars Sample Return (MSR) Campaign Programmatic Environmental Impact Statement, Review Period Ends: 07/03/2023, Contact: Steve Slaten, 202-358-0016.

Dated: May 26, 2023.
Nancy Abrams,
Associate Director, Office of Federal Activities.

[FR Doc. 2023-11738 Filed 6-1-23; 8:45 am]

BILLING CODE 6560-50-P